DEPARTMENT OF ENERGY

Federal Energy Regulatory Commission

Combined Notice of Filings #1

Take notice that the Commission received the following electric rate filings:

Docket Numbers: ER19-158-005; ER10-1547-013; ER10-1975-026; ER10-2421-003; ER10-2585-008; ER10-2613-008; ER10-2616-017; ER10-2617-010; ER10-2619-011; ER10-2669-012; ER10-2670-012; ER10-2674-014; ER10-2677-014; ER11-2457-003; ER11-3857-015; ER11-3867-015; ER11-4266-016; ER11-4400-014; ER12-1769-006; ER12-192-015; ER12-2250-004; ER12-2251-004; ER12-2252-005; ER12-2253-004; ER12-75-007; ER13-2475-012; ER14-1569-010; ER14-2245-004; ER14-883-011; ER15-1596-010; ER15-1598-007; ER15-1599-010; ER15-1600-006; ER15-1602-006; ER15-1605-006; ER15-1607-006; ER15-1608-006; ER17-1906-003; ER19-102-003; ER19-2803-002; ER19-2806-002; ER19-2807-002; ER19-2809-002; ER19-2810-002; ER19-2811-002.

Applicants: Ambit Northeast, LLC, ANP Bellingham Energy Company, LLC, ANP Blackstone Energy Company, LLC, Calumet Energy Team, LLC, Casco Bay Energy Company, LLC, Cincinnati Bell Energy, LLC, Connecticut Gas & Electric, Inc., Dynegy Commercial Asset Management, LLC, Dynegy Dicks Creek, LLC, Dynegy Energy Services (East), LLC, Dynegy Energy Services, LLC, Dynegy Fayette II, LLC, Dynegy Hanging Rock II, LLC, Dynegy Kendall Energy, LLC, Dynegy Marketing and Trade, LLC, Dynegy Miami Fort, LLC, Dynegy Power Marketing, LLC, Dynegy Washington II, LLC, Dynegy Zimmer, LLC, Energy Rewards, LLC, Energy Services Providers, Inc., Everyday Energy, LLC, Everyday Energy NJ, LLC, Hopewell Power Generation, LLC, Illinois Power Marketing Company, Kincaid Generation, L.L.C., Lake Road Generating Company, LLC, Liberty Electric Power, LLC, Luminant Energy Company LLC, Massachusetts Gas & Electric, Inc., MASSPOWER, Milford Power Company, LLC, North Jersey Energy Associates, A Limited Partnership, Ontelaunee Power Operating Company, LLC, Pleasants Energy, LLC, Public Power & Utility of Maryland, LLC, Public Power & Utility of NY, Inc, Public Power, LLC, Public Power (PA), LLC, Richland-Stryker Generation LLC, Sithe/Independence Power Partners, L.P., TriEagle Energy, LP, Viridian Energy, LLC, Viridian Energy NY, LLC, Viridian Energy PA, LLC.

Description: Supplement to June 30, 2020 Triennial Market Power Update for the Northeast Region of the Vistra MBR Sellers.

Filed Date: 11/5/20.

Accession Number: 20201105-5183.

Comments Due: 5 p.m. ET 11/16/20.

Docket Numbers: ER19-2529-004.

Applicants: Black Hills Wyoming, LLC.

Description: Compliance filing: Compliance to Submit MBR Revisions and Wygen I Settlement PPA to be effective 10/15/2020.

Filed Date: 11/12/20.

Accession Number: 20201112-5232.

Comments Due: 5 p.m. ET 12/3/20.

Docket Numbers: ER20-1783-002.

Applicants: NextEra Energy Transmission MidAtlantic, PJM Interconnection, L.L.C.

Description: Compliance filing: Compliance to Revisions-Tariff for NextEra Energy Transmission MidAtlantic Ind. to be effective 10/29/2020.

Filed Date: 11/12/20.

Accession Number: 20201112-5264.

Comments Due: 5 p.m. ET 12/3/20.

Docket Numbers: ER20-1784-001.

Applicants: PJM Interconnection, L.L.C., NextEra Energy Transmission MidAtlantic.

Description: Compliance filing: Compliance to Revisions-CTOA for NextEra Energy Transmission MidAtlantic Indiana to be effective 10/29/2020.

Filed Date: 11/12/20.

Accession Number: 20201112-5269.

Comments Due: 5 p.m. ET 12/3/20.

Docket Numbers: ER20-2563-001.

Applicants: Ohio Power Company, AEP Ohio Transmission Company, Inc., American Electric Power Service Corporation, PJM Interconnection, L.L.C.

Description: Compliance filing: AEPSC submits Compliance Filing re: ER20-2563 to be effective 9/29/2020.

Filed Date: 11/12/20.

Accession Number: 20201112-5271.

Comments Due: 5 p.m. ET 12/3/20.

Docket Numbers: ER20-2734-001.

Applicants: Alabama Power Company.

Description: Tariff Amendment: Southern-FPL-Gulf Settlement Agreement Deficiency Response Filing to be effective 7/3/2020.

Filed Date: 11/12/20.

Accession Number: 20201112-5009.

Comments Due: 5 p.m. ET 12/3/20.

Docket Numbers: ER20-2735-001.

Applicants: Georgia Power Company.

Description: Tariff Amendment: Southern-FPL-Gulf Settlement Agreement Deficiency Response Filing to be effective 7/3/2020.

Filed Date: 11/12/20.

Accession Number: 20201112-5010.

Comments Due: 5 p.m. ET 12/3/20.

Docket Numbers: ER20-2736-001.

Applicants: Mississippi Power Company.

Description: Tariff Amendment: Southern-FPL-Gulf Settlement Agreement Deficiency Response Filing to be effective 7/3/2020.

Filed Date: 11/12/20.

Accession Number: 20201112-5011.

Comments Due: 5 p.m. ET 12/3/20.

Docket Numbers: ER20-2819-001.

Applicants: Pleinmont Solar 1, LLC.

Description: Compliance filing: Revised Rate Schedule under Docket ER20-2819 to be effective 10/1/2020.

Filed Date: 11/12/20.

Accession Number: 20201112-5012.

Comments Due: 5 p.m. ET 12/3/20.

Docket Numbers: ER20-2989-001.

Applicants: Alabama Power Company.

Description: Tariff Amendment: Amendment to Central Alabama IA Amendment Filing to be effective 8/31/2020.

Filed Date: 11/12/20.

Accession Number: 20201112-5013.

Comments Due: 5 p.m. ET 12/3/20.

Docket Numbers: ER21-131-001.

Applicants: Pacific Gas and Electric Company.

Description: Tariff Amendment: Errata Filing to the Balancing Accounts Update 2021 (Wholesale TRBA) to be effective 1/1/2021.

Filed Date: 11/12/20.

Accession Number: 20201112-5223.

Comments Due: 5 p.m. ET 12/3/20.

Docket Numbers: ER21-226-001.

Applicants: PJM Interconnection, L.L.C.

Description: Compliance filing: PJM submits an Errata in ER21-226-000 re: T154 ISA No. 2004 to be effective N/A.

Filed Date: 11/12/20.

Accession Number: 20201112-5008.

Comments Due: 5 p.m. ET 12/3/20.

Docket Numbers: ER21-296-001.

Applicants: Florida Power & Light Company.

Description: Tariff Amendment: FPL Amendment to Revisions to FPL-TECO Rate Schedule No. 23 to be effective 10/22/2020.

Filed Date: 11/12/20.

Accession Number: 20201112-5184.

Comments Due: 5 p.m. ET 12/3/20.

Docket Numbers: ER21-373-000.

Applicants: Lily Solar Lessee, LLC.

Description: § 205(d) Rate Filing: Notice of Change in Status and Revised Seller Category—Lily Solar Lessee, LLC to be effective 9/23/2020.

Filed Date: 11/12/20.

Accession Number: 20201112-5001.

Comments Due: 5 p.m. ET 12/3/20.

Docket Numbers: ER21-374-000.

Applicants: Lily Solar LLC.

Description: § 205(d) Rate Filing: Notice of Change in Status and Revised Seller Category—Lily Solar LLC to be effective 9/23/2020.

Filed Date: 11/12/20.

Accession Number: 20201112-5003.

Comments Due: 5 p.m. ET 12/3/20.

Docket Numbers: ER21-375-000.

Applicants: 83WI 8me, LLC.

Description: § 205(d) Rate Filing: Notice of Change in Status and Revised Seller Category—83WI 8me to be effective 9/23/2020.

Filed Date: 11/12/20.

Accession Number: 20201112-5004.

Comments Due: 5 p.m. ET 12/3/20.

Docket Numbers: ER21-376-000.

Applicants: Alabama Power Company.

Description: § 205(d) Rate Filing: PowerSouth A&R NITSA Amendment Filing (Remove Slocomb DP) to be effective 10/12/2020.

Filed Date: 11/12/20.

Accession Number: 20201112-5005.

Comments Due: 5 p.m. ET 12/3/20.

Docket Numbers: ER21-377-000.

Applicants: Georgia Power Company.

Description: Initial rate filing: SR DeSoto Affected System Construction Agreement (GPAS 016) Filing to be effective 10/16/2020.

Filed Date: 11/12/20.

Accession Number: 20201112-5007.

Comments Due: 5 p.m. ET 12/3/20.

Docket Numbers: ER21-378-000.

Applicants: Mississippi Power Company.

Description: Compliance filing: Gulf States TFA Order No. 864 Compliance Filing to be effective 1/27/2020.

Filed Date: 11/12/20.

Accession Number: 20201112-5014.

Comments Due: 5 p.m. ET 12/3/20.

Docket Numbers: ER21-379-000.

Applicants: GE Oleander LLC.

Description: Tariff Cancellation: Notice of Cancellation of Market-Based Rate Tariff to be effective 11/13/2020.

Filed Date: 11/12/20.

Accession Number: 20201112-5078.

Comments Due: 5 p.m. ET 12/3/20.

Docket Numbers: ER21-380-000.

Applicants: Southwest Power Pool, Inc.

Description: § 205(d) Rate Filing: 1148R29 American Electric Power NITSA and NOA to be effective 11/1/2020.

Filed Date: 11/12/20.

Accession Number: 20201112-5108.

Comments Due: 5 p.m. ET 12/3/20.

Docket Numbers: ER21-381-000.

Applicants: New York Independent System Operator, Inc.

Description: § 205(d) Rate Filing: Special market rules for generators serving the NYC steam distribution system to be effective 1/12/2021.

Filed Date: 11/12/20.

Accession Number: 20201112-5117.

Comments Due: 5 p.m. ET 12/3/20.

Docket Numbers: ER21-382-000.

Applicants: Southwest Power Pool, Inc.

Description: § 205(d) Rate Filing: 1976R9 FreeState Electric Cooperative, Inc. NITSA and NOA to be effective 2/1/2021.

Filed Date: 11/12/20.

Accession Number: 20201112-5118.

Comments Due: 5 p.m. ET 12/3/20.

Docket Numbers: ER21-383-000.

Applicants: Midcontinent Independent System Operator, Inc, American Transmission Company LLC.

Description: § 205(d) Rate Filing: 2020-11-12_SA 3581 ATC-Muscoda CFA to be effective 1/12/2021.

Filed Date: 11/12/20.

Accession Number: 20201112-5119.

Comments Due: 5 p.m. ET 12/3/20.

Docket Numbers: ER21-384-000.

Applicants: Upper Missouri G. & T. Electric Cooperation.

Description: § 205(d) Rate Filing: Initial Rate Schedule Change to be effective 11/15/2019.

Filed Date: 11/12/20.

Accession Number: 20201112-5123.

Comments Due: 5 p.m. ET 12/3/20.

Docket Numbers: ER21-385-000.

Applicants: Upper Missouri G. & T. Electric Cooperation.

Description: Initial rate filing: Formula Rate Filing to be effective 11/15/2019.

Filed Date: 11/12/20.

Accession Number: 20201112-5125.

Comments Due: 5 p.m. ET 12/3/20.

Docket Numbers: ER21-386-000.

Applicants: Southwest Power Pool, Inc.

Description: § 205(d) Rate Filing: 1977R14 Nemaha-Marshall Electric Cooperative NITSA and NOA to be effective 2/1/2021.

Filed Date: 11/12/20.

Accession Number: 20201112-5127.

Comments Due: 5 p.m. ET 12/3/20.

Docket Numbers: ER21-387-000.

Applicants: The Empire District Electric Company.

Description: § 205(d) Rate Filing: Notice of Non-Material Change in Status to be effective 11/13/2020.

Filed Date: 11/12/20.

Accession Number: 20201112-5143.

Comments Due: 5 p.m. ET 12/3/20.

Docket Numbers: ER21-388-000.

Applicants: Odell Wind Farm, LLC.

Description: § 205(d) Rate Filing: Notice of Non-Material Change in Status to be effective 11/13/2020.

Filed Date: 11/12/20.

Accession Number: 20201112-5144.

Comments Due: 5 p.m. ET 12/3/20.

Docket Numbers: ER21-389-000.

Applicants: Midcontinent Independent System Operator, Inc.

Description: § 205(d) Rate Filing: 2020-11-12_SA 3177 Coyote Ridge Wind-NSP 1st Rev GIA (J432) to be effective 10/30/2020.

Filed Date: 11/12/20.

Accession Number: 20201112-5145.

Comments Due: 5 p.m. ET 12/3/20.

Docket Numbers: ER21-390-000.

Applicants: Algonquin Energy Services Inc.

Description: § 205(d) Rate Filing: Notice of Non Material Changes & MBR Revisions—Algonquin Energy Services to be effective 11/13/2020.

Filed Date: 11/12/20.

Accession Number: 20201112-5147.

Comments Due: 5 p.m. ET 12/3/20.

Docket Numbers: ER21-391-000.

Applicants: Deerfield Wind Energy, LLC.

Description: § 205(d) Rate Filing: Notice of Non Material Changes and MBR Tariff Revisions—Deerfield Wind Energy to be effective 11/13/2020.

Filed Date: 11/12/20.

Accession Number: 20201112-5148.

Comments Due: 5 p.m. ET 12/3/20.

Docket Numbers: ER21-392-000.

Applicants: Southwest Power Pool, Inc.

Description: § 205(d) Rate Filing: Revisions to Modify Information Required in Detailed Project Proposals to be effective 1/12/2021.

Filed Date: 11/12/20.

Accession Number: 20201112-5163.

Comments Due: 5 p.m. ET 12/3/20.

Docket Numbers: ER21-393-000.

Applicants: PacifiCorp.

Description: Tariff Cancellation: Termination of 3 Phases Renewables (OR D.A.) to be effective 12/31/2020.

Filed Date: 11/12/20.

Accession Number: 20201112-5186.

Comments Due: 5 p.m. ET 12/3/20.

Docket Numbers: ER21-394-000.

Applicants: New York Independent System Operator, Inc.

Description: § 205(d) Rate Filing: Market rules applicable to energy storage resources that are ICAP suppliers to be effective 3/1/2021.

Filed Date: 11/12/20.

Accession Number: 20201112-5207.

Comments Due: 5 p.m. ET 12/3/20.

Take notice that the Commission received the following public utility holding company filings:

Docket Numbers: PH21-3-000.

Applicants: Valener Inc.

Description: Valener Inc. submits FERC 65-B Waiver Notification.

Filed Date: 11/6/20.

Accession Number: 20201106-5334.

Comments Due: 5 p.m. ET 11/27/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 12, 2020.
Nathaniel J. Davis, Sr.,
Deputy Secretary.

[FR Doc. 2020-25442 Filed 11-17-20; 8:45 am]

BILLING CODE 6717-01-P